INTERNATIONAL TRADE COMMISSION

[Investigation Nos. 731-TA-1580, 1582, and 1583 (Final)]

Steel Nails From India, Thailand, and Turkey

Determinations

On the basis of the record ¹ developed in the subject investigations, the United States International Trade Commission (“Commission”) determines, pursuant to the Tariff Act of 1930 (“the Act”), that an industry in the United States is not materially injured or threatened with material injury by reason of imports of steel nails from India, Thailand, and Turkey, provided for in subheadings 7317.00.55, 7317.00.65, and 7317.00.75 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 87 FR 78929, December 23, 2022; 87 FR 78935, December 23, 2022; and 87 FR 78937, December 23, 2022. Commerce also published notice in the Federal Register of a negative final antidumping duty determination in connection with the investigation concerning steel nails from Sri Lanka (87 FR 78933, December 23, 2022). Accordingly, effective December 23, 2022, the Commission terminated its antidumping duty investigation concerning steel nails from Sri Lanka (88 FR 1291, January 9, 2023).

Background

The Commission instituted these investigations effective December 30, 2021, following receipt of petitions filed with the Commission and Commerce by Mid Continent Steel & Wire, Inc., Poplar Bluff, Missouri. The Commission scheduled the final phase of the investigations following notification of preliminary determinations by Commerce that imports of steel nails from India, Oman, Sri Lanka, and Turkey were being subsidized within the meaning of section 703(b) of the Act (19 U.S.C. 1671b(b)).³ Notice of the scheduling of the final phase of the Commission's investigations and of a public hearing to be held in connection therewith was given by posting copies of the notice in the Office of the Secretary, U.S. International Trade Commission, Washington, DC, and by publishing the notice in the Federal Register of June 21, 2022 (87 FR 36882). In light of the restrictions on access to the Commission building due to the COVID-19 pandemic, the Commission conducted its hearing through written testimony and video conference on August 17, 2022. All persons who requested the opportunity were permitted to participate.

³ While Commerce preliminarily determined that countervailable subsidies were not being provided to producers and exporters of steel nails from Thailand, the Commission continued its investigative activities pursuant to Commission rule 207.21(c). Determinations by Commerce with respect to sales at less-than-fair-value value of imports of steel nails from India, Sri Lanka, Thailand, and Turkey were pending at that time and subsequently published in the Federal Register on August 4, 2022 (87 FR 47719, 87 FR 47701, 87 FR 47708, and 87 FR 47699).

The investigation schedules became staggered when Commerce did not align its countervailing duty investigations with its antidumping duty investigations and reached earlier final countervailing duty determinations. On October 6, 2022, the Commission issued final negative determinations in its countervailing duty investigations of steel nails from India, Oman, Sri Lanka, and Turkey (87 FR 61631, October 12, 2022). Following notification of final determinations by Commerce that imports of steel nails from India, Thailand, and Turkey were being sold at LTFV within the meaning of section 735(a) of the Act (19 U.S.C. 1673d(a)), notice of the supplemental scheduling of the final phase of the Commission's antidumping duty investigations was given by posting copies of the notice in the Office of the Secretary, U.S. International Trade Commission, Washington, DC, and by publishing the notice in the Federal Register of scheduling of the final phase of Commission's antidumping duty investigations (88 FR 2373, January 13, 2023).

The Commission made these determinations pursuant to section 735(b) of the Act (19 U.S.C. 1673d(b)). It completed and filed its determinations in these investigations on February 6, 2023. The views of the Commission are contained in USITC Publication 5404 (February 2023), entitled Steel Nails from India, Thailand, and Turkey: Investigation Nos. 731-TA-1580, 1582, and 1583 (Final).

By order of the Commission.
Issued: February 6, 2023.
Katherine Hiner,
Acting Secretary to the Commission.

[FR Doc. 2023-02833 Filed 2-9-23; 8:45 am]

BILLING CODE 7020-02-P